DEPARTMENT OF LABOR

Employment and Training Administration

[TA-W-38,535]

Melpack, Inc., Mullins, SC; Notice of Termination of Investigation

Pursuant to section 221 of the Trade Act of 1974, an investigation was initiated on January 16, 2001, in response to a worker petition which was filed on behalf of workers at Melpack, Inc., Mullins, South Carolina.

The petitioner has requested that the petition be withdrawn. Consequently, further investigation in this case would serve no purpose, and the investigation has been terminated.

Signed in Washington, D.C. this 16th day of January, 2001.
Linda G. Poole,
Certifying Officer, Division of Trade Adjustment Assistance.

[FR Doc. 01-3305 Filed 2-7-01; 8:45 am]

BILLING CODE 4510-30-M